NUCLEAR REGULATORY COMMISSION

[Docket No 72-13]

Entergy Operations, Incorporated; Notice of Docketing of Request for Exemption for Arkansas Nuclear One, Unit 1 and Unit 2

AGENCY: Nuclear Regulatory Commission.

ACTION: Notice of request for exemption from the requirements of 10 CFR 72.212(a)(2) and 10 CFR 72.214.

FOR FURTHER INFORMATION CONTACT: Christopher M. Regan, Senior Project Manager, Spent Fuel Project Office, Office of Nuclear Material Safety and Safeguards, U.S. Nuclear Regulatory Commission, Washington, DC 20555. Telephone: (301) 415-1179; fax number: (301) 415-1179; e-mail: cmr1@nrc.gov.

SUPPLEMENTARY INFORMATION:

I. Introduction

The U.S. Nuclear Regulatory Commission (NRC or Commission) is considering a request dated May 23, 2005, from Entergy Operations, Inc. (applicant or Entergy Operations) for exemption from the requirements of 10 CFR 72.212(a)(2) and 10 CFR 72.214 pursuant to 10 CFR 72.7, for the Arkansas Nuclear One, Unit 1 (ANO-1) and Unit 2 (ANO-2), facility located 6 miles west-northwest of Russellville, Arkansas. If granted, the exemption will authorize the applicant to load spent nuclear fuel in accordance with proposed Amendment 2 to Certificate of Compliance (CoC) 1014 granted to Holtec International (Holtec) for the HI-STORM 100 system. This request was docketed under 10 CFR Part 72; the Independent Spent Fuel Storage Installation Docket No. is 72-13.

An NRC administrative review, documented in a letter to Entergy Operations dated June 2, 2005, found that the application contains sufficient information for the NRC staff to begin its technical review. Prior to issuance of the requested exemption, the Commission will have made the findings required by the Atomic Energy Act of 1954, as amended (the Act), and the Commission's regulations. These findings will be documented in a Safety Evaluation Report. The issuance of the exemption will not be approved until the NRC has reviewed the application and has concluded that granting of the request will not be inimical to the common defense and security and will not constitute an unreasonable risk to the health and safety of the public. The NRC will complete an environmental assessment, in accordance with 10 CFR part 51. This action will be the subject of a subsequent notice in the Federal Register.

II. Further Information

In accordance with 10 CFR 2.390 of NRC's “Rules of Practice,” final NRC records and documents regarding this proposed action, including the exemption request dated May 23, 2005, are publically available in the records component of NRC's Agencywide Documents Access and Management System (ADAMS). These documents may be inspected at NRC's Public Electronic Reading Room at http://www.nrc.gov/reading-rm/adams.html. These documents may also be viewed electronically on the public computers located at the NRC's Public Document Room (PDR), O1F21, One White Flint North, 11555 Rockville Pike, Rockville, MD 20852. The PDR reproduction contractor will copy documents for a fee. Persons who do not have access to ADAMS or who encounter problems in accessing the documents located in ADAMS, should contact the NRC PDR Reference staff by telephone at 1-800-397-4209 or (301) 415-4737, or by e-mail to pdr@nrc.gov.

Dated at Rockville, Maryland, this 2nd day of June 2005.
For the Nuclear Regulatory Commission.
Christopher M. Regan,
Senior Project Manager, Spent Fuel Project Office, Office of Nuclear Material Safety and Safeguards.

[FR Doc. E5-2917 Filed 6-7-05; 8:45 am]

BILLING CODE 7590-01-P